DEPARTMENT OF ENERGY

Western Area Power Administration

[DOE/EIS-0543]

Rail Tie Wind Project Record of Decision

AGENCY: Western Area Power Administration, DOE.

ACTION: Record of decision.

SUMMARY: ConnectGen Albany County LLC (ConnectGen) filed two interconnection requests with the Western Area Power Administration (WAPA) to interconnect its proposed Rail Tie Wind Project (Project) to the Ault-Craig 345-kilovolt (kV) transmission line owed by WAPA, Tri-State Generation and Transmission Association, and Platte River Power Authority. The proposed site of the 504-megawatt (MW) Project is in southeastern Albany County, Wyoming, on approximately 26,000 acres of private and State land. WAPA considered ConnectGen's interconnection requests in accordance with its established Open Access Transmission Service Tariff (Tariff), Federal Energy Regulatory Commission (FERC) Orders, and the Federal Power Act (FPA). An environmental impact statement (EIS) analyzed the environmental impacts of ConnectGen's proposed Project and WAPA's Federal action. Significant impacts on visual resources, certain historic properties, and eagles from turbine operations were identified; impacts on all other resources were found to be less than significant. Based upon the analysis of potential environmental impacts, and applicable procedures and standards for interconnection to WAPA's transmission system under its Tariff, FERC Orders and FPA requirements, WAPA has determined to approve ConnectGen's interconnection requests.

FOR FURTHER INFORMATION CONTACT: For further information contact Mark Wieringa, NEPA Document Manager, Headquarters Office A9402, Western Area Power Administration, P.O. Box 281213, Lakewood, CO 80228, telephone (720) 962-7448, or email wieringa@wapa.gov.

SUPPLEMENTARY INFORMATION: WAPA is a Federal agency within the Department of Energy (DOE) that markets and transmits wholesale electrical power through an integrated 17,000-circuit mile, high-voltage transmission system across 15 western states. WAPA's Tariff provides open access to its electric transmission system, in accordance with relevant FERC Orders. The Tariff's Large Generator Interconnection Procedures (LGIP) provide a framework for processing interconnection requests. WAPA's LGIP provides for transmission and system studies to ensure that reliability and service to existing customers are not adversely affected by new interconnections. System impact studies (SIS) take the proposed interconnection into account and model power flows to determine if there would be any potential power system issues, which are typically related to overloads. SIS also identify any system upgrades necessary to resolve power system issues and accommodate the interconnection request. System upgrades could include transmission line reconductoring, additional structures to maintain ground clearance, and substation equipment additions or replacements. WAPA's SIS, completed in 2020, determined that no additional system upgrades would be required to accommodate ConnectGen's proposed Project.

ConnectGen filed two interconnection requests with WAPA to interconnect its proposed Project to the Ault-Craig 345-kV transmission line owned by WAPA, Tri-State Generation and Transmission Association, and Platte River Power Authority. WAPA initiated the LGIP process to consider ConnectGen's interconnection requests in accordance with the Tariff. Since system effects vary depending on the transmission line that would host the interconnection and the geographical location of the interconnection, an applicant must specify the point of interconnection in their request. ConnectGen filed two interconnection requests with WAPA, each 252 MW, to accommodate build-out of their proposed Project in two stages if necessary. However, there would be only one interconnection point on the Ault-Craig transmission line.

ConnectGen's interconnection requests trigger the need for WAPA to consider taking a Federal action. Federal actions that have the potential to affect the human environment are subject to environmental review under the National Environmental Policy Act of 1969 (NEPA, 42 U.S.C. 4321 et seq.). WAPA determined that while its Federal action to approve or deny ConnectGen's interconnection requests was a minor action environmentally, ConnectGen's proposed Project, as a connected action, had the potential for significant environmental impacts. Therefore, WAPA determined that its Federal action combined with ConnectGen's proposed Project constituted a major Federal action requiring the preparation of an EIS. The completed EIS ensures WAPA's Administrator is presented with the impacts of both the Federal action and proposed Project when making an informed decision on the interconnection requests.

WAPA's Proposed Federal Action

The proposed Federal action being considered by WAPA is whether to approve or deny ConnectGen's interconnection requests. FERC mandates, as reflected in WAPA's Tariff, and the FPA, as amended, generally require that interconnection requests be accommodated so long as capacity is available, operation of the power system would not be negatively affected, the applicant funds any necessary system upgrades, and existing power customers would not be impacted. WAPA can deny an interconnection request if any of these conditions are not met. If ConnectGen's interconnection request is approved, WAPA would construct, own, operate, and maintain an interconnection switchyard in the Project Area. The interconnection switchyard would be located adjacent to the existing Ault-Craig 345-kV transmission line within a fenced area of up to eight acres. It would consist of breakers, switches, buswork, other typical substation equipment, and a small control building, and would be funded and constructed by ConnectGen next to the westernmost Project substation. WAPA would own, operate, and maintain the switchyard as part of WAPA's transmission system.

Under the No Action Alternative, WAPA would not approve the interconnection request, and the Project would not be allowed to connect to WAPA's transmission system. While this would not preclude the Project from being constructed and connected to a non-WAPA-managed transmission system, for the purposes of analysis, the EIS assumed that the Project would not be built. Rationale for this assumption includes: the nearest non-WAPA regional transmission lines would require a much longer generation-tie line (gen-tie line), affecting the economics of the Project; and any non-WAPA transmission lines may not have sufficient available transmission capacity to support ConnectGen's Project.

ConnectGen's Proposed Project

ConnectGen proposes to develop a 504-MW wind energy generation Project comprised of 84 to 149 wind turbine generators and associated access roads, collection lines, a 4-mile 345-kV gen-tie line, meteorological towers, 2 substations, and an operations and maintenance building. ConnectGen's proposed site is in southeastern Albany County, Wyoming, on approximately 26,000 acres of private and State land. No federally managed lands are located within the Project Area. The Project Area is just north of the Colorado-Wyoming state line, approximately 15 miles south of Laramie, around Tie Siding on U.S. Highway 287. The Ault-Craig 345-kV transmission line bisects the Project Area from east to west. The westernmost of the proposed Project substations would be located adjacent to the transmission line and WAPA's switchyard. The approximately four-mile-long 345-kV gen-tie transmission line would connect the two ConnectGen substations, each consisting of about five acres.

ConnectGen proposes to construct the Project in two phases, generally situated west and east of U.S. Highway 287. The wind turbines would be arranged in collinear strings within the 1,000-foot-wide corridors analyzed in the EIS. Project access roads and collector lines would be located within these corridors to the extent practicable. Final design will utilize the corridor width to site Project facilities to avoid cultural resources sites, sensitive natural resources, and areas of constructability constraints. The total number of wind turbines will depend on the turbine model selected and final Project design. ConnectGen's Project would also include about 60 miles of improved and new access roads, and temporary crane paths. An underground 34.5-kV collector line system would carry power from the turbines to the two Project substations; overhead lines could be required where bedrock prevents trenching.

Other Project components would include two 15-acre temporary laydown yards, at least three self-supported 105-meter meteorological towers, and an approximately 7,000-square-foot operations and maintenance building within a security fenced area of about five acres. Section 2.2 of the final EIS describes ConnectGen's proposed Project in more detail.

ConnectGen's Project was approved by the Albany County Board of County Commissioners on July 13, 2021, the Wyoming State Board of Land Commissioners on January 21, 2021, and the Wyoming Industrial Siting Council on November 2, 2021, with associated conditions. These conditions were incorporated into the Project's committed Environmental Protection Measures (table 2-6 in the final EIS). The design features, best management practices, and avoidance and minimization measures in table 2-6 are considered an integral part of the proposed Project to be implemented by ConnectGen. These measures, as described in detail in the Final EIS, reflect all practicable means to avoid or minimize environmental harm from the Project. WAPA may also include these mitigation measures as an appendix to the interconnection agreement.

Alternatives

Given that WAPA's Federal action is to either approve or deny ConnectGen's interconnection requests, a yes or no decision, no additional alternatives beyond the proposed Federal action and the No Action Alternative were identified for analysis in the EIS. EIS alternatives must be reasonable and feasible alternatives to the proposed Federal action that meet the agency's purpose and need. WAPA has no interest or role in ConnectGen's proposed wind energy Project, nor will the agency have any sort of continuing involvement in the construction or operation of the Project other than its switchyard. As the proposed Project is a private sector development and does not involve any oversight or participation by WAPA in its construction or operation, ConnectGen's Project is not a Federal action. WAPA does not have jurisdiction over ConnectGen's proposed Project and does not possess the regulatory authority to approve or deny the siting, design, construction, or operation of the Project. Therefore, the proposed Project was analyzed as a connected action. Connected actions are actions that are “closely related” to a Federal action and “should be discussed” in the same NEPA document (40 CFR 1501.9(e)(1)). More specifically, connected actions “(i) Automatically trigger other actions that may require environmental impact statements; (ii) Cannot or will not proceed unless other actions are taken previously or simultaneously; or (iii) Are interdependent parts of a larger action and depend on the larger action for their justification.” Id. Design variations or options developed in conjunction with ConnectGen's proposed Project are not alternatives to WAPA's defined Federal action and, therefore, are not “alternatives” as defined by NEPA and applicable implementing regulations (40 CFR 1502.14 and 1502.17; 10 CFR part 1021).

WAPA's proposed Federal action is limited to consideration of the interconnection requests submitted by ConnectGen within the established LGIP. WAPA must also consider the interconnection facilities and associated system upgrades that would be required, if any. ConnectGen's requests for interconnection of their proposed Project is the impetus for WAPA's need for Federal action. Consistent with 40 CFR 1501.9(e)(1), WAPA fully analyzed the potential environmental effects of ConnectGen's Project in the EIS, as a connected action, to inform WAPA's Federal action decision. In the event that WAPA denies the interconnection request, the proposed Project would not be allowed to interconnect to the WAPA transmission system. ConnectGen's decision to construct their Project could proceed regardless of WAPA's involvement if the Project could interconnect with other non-WAPA transmission lines with sufficient available transmission capacity. This scenario was not analyzed in the EIS, as there would be no Federal nexus in that case and no WAPA Federal action to address under NEPA.

Significant Impacts

The EIS analysis identified three areas where potentially significant environmental impacts could occur from developing and operating ConnectGen's proposed Project. The first is significant impacts on visual resources generally. The large wind turbines would result in an obvious man-made change to the existing visual environment that would be seen for a considerable distance, depending on the viewer's location and intervening topography. The Federal Aviation Administration (FAA)-required synchronized flashing red warning lights on each turbine nacelle would serve as a constant visual intrusion at night. ConnectGen will seek authorization from the FAA to install an Aircraft Detection Lighting System (ADLS), which would allow the red lighting to remain off until an approaching aircraft was detected. If the FAA does approve an ADLS for the Project, nighttime visual impacts would be greatly reduced.

The second is significant adverse visual impacts to the Ames Monument National Historic Landmark (NHL) and to other National Register of Historic Places (NRHP) listed or eligible cultural resources where they were found associated with a significant event in history (NRHP Criterion A) or significant in their engineering or architecture (NRHP Criterion C) and where “setting” or “feeling” were aspects of integrity important to their NRHP eligibility. None of these locations would be physically affected; the impact would be from the visual intrusion on the sites' aspect, setting, or feeling. A programmatic agreement (PA) has been prepared in accordance with Section 106 of the National Historic Preservation Act (NHPA). Under the PA, a historic properties treatment plan (HPTP) is being developed that will satisfy the stipulations of the PA and identify specific avoidance, minimization, and mitigation measures to resolve adverse effects of ConnectGen's proposed Project. Under NHPA's provisions, implementing the PA and mitigation measures as outlined in the HPTP would resolve all adverse effects under the NHPA. However, within the context of NEPA, visual impacts to these cultural resources could still remain potentially significant.

The last significant impact identified by WAPA is the risk of eagle fatalities posed by the operation of ConnectGen's Project. Eagles and other raptors are known to suffer fatalities from collisions with operating wind turbine blades. Because golden and bald eagles have been documented in the Project Area, individuals of those species are considered at risk of fatality from collision with operating turbines. Preliminary information suggests that there could be multiple eagle fatalities per year resulting from operation of the Project, with the larger proportion expected to be golden eagles. ConnectGen has committed to establishing a one-mile spatial buffer around known eagle nests, to preparing an eagle conservation plan, and to applying for an eagle incidental take permit from the U.S. Fish and Wildlife Service (FWS) in compliance with the Bald and Golden Eagle Protection Act.

As part of the eagle incidental take permitting process, the FWS will model expected take resulting from the Project and perform a separate additional NEPA process. That NEPA process will determine the significance of potential impacts on eagles and will consider measures implemented through the eagle conservation plan and offset mitigation. Additional avoidance, minimization, and mitigation measures may be developed by the FWS during this process that ConnectGen would implement to further reduce the risk of eagle take. Based on the best available information at this time, WAPA considers the risk of Project-related incidental take of eagles to be a significant impact for the purposes of its NEPA process. It should be noted that WAPA has no role in the eagle incidental take permit process outlined above—that effort is between ConnectGen and the FWS alone. WAPA further notes that the potential risk to eagles as presently understood may be reduced as a result of implementing additional measures developed as part of the FWS incidental take permitting process.

Agency Preferred Alternative

WAPA has before it a Federal action of approving or denying an interconnection request. As discussed above, WAPA's Tariff and FERC Orders on open access to transmission generally require WAPA to make uncommitted capacity available to applicants so long as the operation of the integrated power system is not adversely affected, service to existing power customers is not degraded, and any necessary system upgrades are fully funded by the requesting applicant. As detailed in the EIS, WAPA considered the expected environmental impacts of ConnectGen's connected action in addition to the Federal action of approving or denying the interconnection requests. WAPA finds that ConnectGen has adopted all practicable means to avoid or minimize environmental harm from its proposed Project, which includes WAPA's interconnection switchyard. These means include the design features, best management practices, and avoidance and minimization measures described in detail in the final EIS and incorporated into the Project's committed Environmental Protection Measures (table 2-6 in the final EIS). WAPA has determined that the Agency Preferred Alternative is to approve ConnectGen's interconnection requests.

Environmentally Preferred Alternative

As required by 40 CFR 1505.2, WAPA identifies the No Action Alternative as the Environmentally Preferred Alternative. Under the No Action Alternative, WAPA would not enter into an interconnection agreement for the proposed Project and there would be no interconnection with the WAPA transmission system and no interconnection switchyard. Although it is possible that ConnectGen could still construct and operate their Project, to do so the Project would need to identify and interconnect with another non-WAPA transmission line that had sufficient available transmission capacity. For purposes of the NEPA analysis, the No Action Alternative assumed the proposed Project would not be constructed. WAPA has identified the No Action Alternative as its Environmentally Preferred Alternative as none of the identified Project-related impacts would occur, including the potentially significant visual impacts and risk of eagle mortality. The beneficial impacts of renewable energy generation would also not occur.

Floodplain and Wetlands Statement of Findings

Federal Emergency Management Agency (FEMA) Flood Insurance Rate Maps were reviewed to assess floodplains within the Project Area. Approximately 15.8 acres of the overall 6,361.5 acres within the siting corridors are in the 100-year floodplain, associated with Pump Creek, Dale Creek, and their tributaries. No aboveground structures would be located within that small amount of floodplain but buried collector lines may cross designated floodplain areas. Many of the streams in the Project Area are ephemeral and intermittent streams, driven by spring snowmelt and to a lesser extent, rainfall. As measured in linear feet, only about five percent of streams mapped in the siting corridors are perennial streams, with the rest being intermittent or ephemeral drainages. Wetland surveys mapped approximately 67.5 acres of wetlands within the siting corridors, which are mostly associated with streams and their tributaries.

Given the approximately 26,000-acre size of the Project Area and the need for access roads and collector lines to each turbine location and temporary crane walks connecting the linear siting corridors, it is not possible to completely avoid the many drainages and swales on the site. Despite ConnectGen's efforts to avoid or minimize surface water crossings, a total of 17 crossings of perennial streams and 169 crossings of intermittent or ephemeral streams have been identified. Except for a few collector line crossings of the 15.8 acres of floodplain within the siting corridors mentioned above, none of these crossings would be across FEMA-designated floodplains.

Of the 17 perennial stream crossings 5 would be by access roads, 7 by collector lines, and 5 by temporary crane paths. Two of the access road crossings would follow existing roads that would be improved for Project use and to reduce potential erosion. The collector line crossings would consist of a narrow band of disturbance where the collector line would be trenched in and backfilled, and most would be co-located with access road crossings. Crane path crossings would be temporary for construction use and would be reclaimed following construction.

Of the identified 169 crossings of intermittent and ephemeral drainages, 75 would be by access roads, 62 by collection lines, and 18 by crane paths. The gen-tie line between substations would span over six drainages, and construction of one substation and seven turbines would result in drainage disturbance. Approximately half (94 total) of these 169 intermittent and ephemeral stream crossings are upland swales without defined beds or banks.

In accordance with 10 CFR part 1022, the EIS included a description of WAPA's Federal action, a description of ConnectGen's proposed Project, and maps of the Project Area. The EIS process provided an opportunity for public review and comment on floodplain and wetland issues, evaluated potential effects to floodplains and wetlands, and listed the environmental protection measures committed to by ConnectGen to minimize impacts to floodplains and wetlands. The proposed Project would not affect flood flows or impede water movement during flood events. Three new access roads are proposed to cross perennial streams. Wetland areas have been avoided to the extent practicable. Disturbance to wetlands would occur on approximately 9.9 acres during the construction of access roads, electrical collection lines, a portion of one turbine construction pad, and crane path crossings. After the Project is operational, access roads would remain on approximately 0.8 acres of wetlands. Table 2-6 in the final EIS lists 14 water quality environmental protection measures and impact minimization measures ConnectGen has committed to implementing. These measures, which conform to applicable floodplain standards, will minimize harm to the 15.8 acres of 100-year floodplain within the identified corridors.

Section 7 and Section 106 Consultation

WAPA consulted with the FWS under Section 7 of the Endangered Species Act. Only one listed species, Preble's meadow jumping mouse (Zapus hudsonius preblei), was determined to potentially inhabit the Project Area. Suitable habitat exists, although the presence of this species has not been established and the suitable habitat may not be occupied. Consultation with the FWS resulted in a “may affect, but is not likely to adversely affect” determination for this species. ConnectGen has committed to implement the species-specific conservation measures identified by the FWS.

Interconnecting ConnectGen's proposed Project to WAPA's transmission system constitutes a Federal undertaking pursuant to regulations that implement Section 106 of the NHPA. Section 106 requires WAPA to consider the effects of projects on NRHP-listed or eligible cultural resources, and on locations or resources of traditional religious and cultural importance to Native American tribes. A PA was developed in accordance with the Section 106 process to identify NRHP listed or eligible cultural resources in the area of potential effects, ensure consideration of effects on all NRHP listed or eligible cultural resources, and direct the treatment of NRHP listed or eligible cultural resources. Completion of the PA process and requirements would resolve the adverse effects from the undertaking and meet WAPA's NHPA Section 106 responsibilities. The PA also establishes the framework for a HPTP that will identify specific avoidance, mitigation, and minimization measures for each affected NRHP listed or eligible cultural resource and resolve adverse effects to them. WAPA's HPTP is currently under development, and the requirements of the HPTP and PA must be completed prior to any Project ground-disturbing activities that could affect listed or eligible cultural resources. ConnectGen Albany County LLC has signed the PA as an invited signatory.

Parties involved in this process in addition to WAPA and ConnectGen include the Wyoming and Colorado State Historic Preservation Officers; the National Park Service; the Advisory Council on Historic Preservation; the Northern Arapaho Tribe of the Wind River Reservation; Northern Cheyenne Tribe of the Northern Cheyenne Indian Reservation; Rosebud Sioux Tribe; Standing Rock Sioux Tribe; Ute Tribe of the Uintah and Ouray Reservation; the Yankton Sioux Tribe; Wyoming Office of State Lands and Investments; Albany County Historic Preservation Board; and Wyoming State Parks, Historic Sites, and Trails, among others. The Section 106 process is separate from the NEPA process, and although the two processes are typically coordinated to the extent possible, there is no requirement that all NHPA activities be completed before a ROD is issued. All requirements of the PA must, however, be concluded before any construction activities commence.

A historic properties visual impact analysis identified adverse visual effects on the Ames Monument NHL and two segments of the Overland Trail. In addition, the NEPA analysis identified strong, but less than adverse, visual impacts to the historic Union Pacific Railroad and moderate impacts to certain segments of the Cheyenne Pass Road. Cultural resource field surveys did not identify any additional cultural resources eligible under Criterion A or C where integrity of “setting” or “feeling” are integral to their eligibility. WAPA is also continuing government-to-government consultations with Native American tribes on traditional cultural properties they have identified in the Project area, with the goal of avoiding all these locations. A detailed discussion of the NHPA, Section 106 process, PA, and the HPTP is found in Section 3.6 of the final EIS. The PA itself is posted on WAPA's Project website.

Public Involvement

Public involvement for the EIS process began with the publication of a notice to prepare an EIS published in the Federal Register on December 30, 2019. At the same time, a description of ConnectGen's proposed Project and an invitation to scheduled scoping meetings was mailed to all residents within the Project Area and within three miles of the Project Area boundaries. Scoping meeting information was also advertised in local newspapers, posted on WAPA's Project website, and distributed via news releases to media outlets. Two public scoping meetings were hosted in Laramie, Wyoming, in January 2020, with approximately 80 individuals attending each scoping meeting. The 32-day scoping period ran from December 30, 2019, through January 31, 2020.

On April 2, 2021, the draft EIS was noticed in the Federal Register by the Environmental Protection Agency (EPA), beginning the public review and comment period. Interested parties on the Project mailing list were contacted directly, and WAPA provided news releases to local media announcing the release of the draft EIS and public hearings on the proposed Project. The comment period was open for 45 days, ending on May 17, 2021. Due to Covid-19 restrictions, WAPA held two virtual public hearings during the comment period, one each on April 28, 2021, and on April 29, 2021. Recordings and transcripts of the virtual public hearings were captured, and meeting materials, recordings, transcripts, and a question-and-answer report are available on WAPA's Project website. Public comments were accepted via online form, email, postal mail, and verbally at the virtual public hearings; a total of 124 comment submittals were received. The comments in these submittals were considered and incorporated into the final EIS as appropriate. The comments and associated responses are provided as appendix C to the final EIS.

In addition to public outreach, 17 Federal agencies or offices, 30 State agencies or offices, and 12 local agencies were contacted to initiate coordination with the NEPA review process. Seven of these agencies agreed to participate in the NEPA review process as cooperating agencies. Government-to-government consultation under Section 106 of the NHPA was also initiated with 17 potentially interested Native American tribes. Six of these tribes are actively participating in the ongoing Section 106 process, and tribal members assisted with cultural resources field surveys.

WAPA considered all alternatives, information, analyses, comments, and objections submitted by State, tribal, and local governments and public commenters in developing the EIS, in accordance with 40 CFR 1505.2.

Comments on Final EIS

A comment letter received after the release of the final EIS (and well after the 30-day waiting period established by regulation) identified two specific wind energy projects that the author claimed were not considered in the cumulative effects analysis in the final EIS. These are the Boswell Springs Wind Project and the Rock Creek Wind Energy Project.

A memorandum dated August 17, 2020, was prepared, titled “Determination of Reasonably Foreseeable Actions Considered in Cumulative Effects Analysis” at the time that the impact analysis was being completed for the draft EIS. This memo includes the methodology used to identify projects with potential to spatially and temporally overlap with the Rail Tie Wind Project. The memo identified the Boswell Springs Wind Project, and it was considered for cumulative impact analysis. However, that project was ultimately not included because it would not overlap with the Rail Tie Wind Project in either time or space. It is more than 50 miles from the Rail Tie Wind Project Area and did not overlap with the resource analysis areas, except for the socio-economic and transportation analysis areas that were based upon county boundaries. In the case of these latter two resources, the temporal impacts were limited to the active construction phase, which was scheduled to conclude in 2020 and not overlap with the Rail Tie Wind Project's construction phase. The Boswell Springs Wind Project presently appears to be inactive, and no updated project schedule is publicly available.

The Rock Creek Wind Farm was not identified in August 2020 and was, therefore, not included in the cumulative impacts analysis in the draft or final EIS. The Rock Creek Wind Energy Project was made public on September 21, 2021, through the submission of an application for a Commercial Wind Energy Conversion System Permit to Albany County, Wyoming. No comments were received during the draft EIS public comment period indicating that the Rock Creek Project or any other additional projects should be analyzed. Likewise, no cooperating agency brought up any additional projects that should be considered between the draft and final EIS. As a result, WAPA was not aware of the Rock Creek Wind Farm project prior to the publication of the final EIS.

The proposed Rock Creek Wind Energy Project is located approximately 35 miles northwest of the Rail Tie Wind Project and therefore overlaps spatially with the resource analysis area for public health and safety (resource analysis areas were variable, with the largest being Project Area plus Wyoming emergency service provider response areas overlapping the Project Area), recreational resources (50 miles), social and economic resources (the analysis area was Albany County, WY), and transportation and access (the analysis area included major interstates and highways in Albany County, WY). Additionally, the Rock Creek Wind Energy Project could potentially overlap temporally with both the Rail Tie Wind Project's construction and operation phases. Because the Rock Creek Wind Energy project overlaps spatially and possibly temporally with the Rail Tie Wind Project, and is a reasonably foreseeable project, its potential environmental effects should be considered as part of the cumulative impact analysis. Accordingly, disclosure of the potentially relevant cumulative impacts of the Rock Creek Wind Energy Project have been included in this ROD.

Both projects would use common emergency services providers in Albany County, and the Rock Creek Project would also use providers from Carbon County. Providers in common include Albany County Sheriff's Office and Ivinson Memorial Hospital in Albany County, along with the more regional providers of Rawlins Interagency Dispatch Center and Wyoming State Forestry Division Casper Interagency Dispatch Center for wildland fire. Both projects would complete Emergency Response Plans (PHS-2 and PHS-13) and would coordinate these plans with the local emergency service providers to minimize impacts to the providers. The Rock Creek Project's location at the Albany-Carbon County boundary means it identified different local fire departments as the nearest and most likely to respond. Regarding the Rail Tie Wind Project, the Wyoming Industrial Siting Council (ISC) granted requests for impact assistance funds to Albany County and the City of Laramie to offset Project impacts to emergency response services (WyISC 2021). The Rock Creek Project's application is being considered by the ISC as well and the impact assistance funding consideration is standard practice; it is assumed that similar funds will also be allocated for that project. The ISC application for the Rail Tie Wind Project indicated that the Project would have no impact to the levels of service provided by the Ivinson Memorial Hospital.

Recreational resources in the cumulative projects' area are distributed in nature as noted in cumulative impacts of the EIS, and the peak workforces are relatively small in comparison to local populations (each project's peak workforce is less than 200 workers (Tetra Tech 2021, Jacobs 2021)); these factors naturally would attenuate any cumulative impact experienced from multiple large construction projects. Similarly, large, concentrated events, such as Cheyenne Frontier Days, would not be affected by attendance increases based on the high number of attendees (approximately 500,000 people in 2019, WyomingNews.com).

The addition of the Rock Creek Project does not materially affect the qualitative assessment of the socioeconomic resources. It is anticipated that the geography and timing of housing demand for construction crews would be spread across a large area. Local tax revenue would increase, and sales tax would fluctuate with construction; when more equipment and materials are purchased, sales tax revenue would increase. Property tax revenue would increase with the completion of each project, and slowly decline with the depreciation rate of each project.

Cumulative effects to transportation between the Rail Tie and Rock Creek projects would be limited to equipment or materials shipment along I-80 or US 287, which could result in additional temporary increases of annual average daily traffic and peak hourly vehicles along these portions of highway affected by both projects. While equipment and materials shipments may have a cumulative impact, the daily workforce commute between home and the worksite could more materially increase traffic during construction. This commuter increase would not be expected to create a cumulative impact between these two projects, as the Rail Tie Wind Project traffic would travel south from Laramie, while Rock Creek Wind Energy Project would travel to the north of Laramie. The same would be true of the much-reduced post-construction operations traffic. It should also be noted that the final schedules for delivery of equipment and materials, as well as construction, have not been determined for either project, so any overlap of construction traffic would be speculative and may not actually occur. ConnectGen has committed to schedule Project component deliveries to avoid local traffic volume peaks to the extent practicable (TRANS-2).

Based on the consideration of the Rock Creek Wind Energy Project in the analysis of emergency service providers, recreational resources, social and economic resources, and transportation, the cumulative impacts to these resources would not be significant.¹

¹ Jacobs. 2021. Rock Creek Wind Energy Project Albany and Carbon Counties, Wyoming, Wyoming Industrial Development Information and Siting Act Section 109 Permit Application, Final. December, 2021. Available at: https://deq.wyoming.gov/industrial-siting-2/#1fBPdlIGCiY4YvOHuB5dndJ2PrQKJENhB. Accessed May 23, 2022. Tetra Tech, Inc. 2021. Rail Tie Wind Project Albany County, Wyoming, Wyoming Industrial Development Information and Siting Act Section 109 Permit Application. April 20, 2021. Available at: https://deq.wyoming.gov/industrial-siting-2/#1CNyUe8qeEf-qOA79kmlZStrSvg-wXg9h. Accessed May 23, 2022. Wyoming Industrial Siting Commission (WyISC). 2021. Findings of Fact, Conclusions of Law, and Order Granting Permit Application with Conditions, and Allocating Impact Assistance Funds, In the Matter of the Industrial Sting Permit Application of ConnectGen Albany County. OAH Docket No. 21-078-020, Docket No. DEQ/ISC 20-09. Available at: https://deq.wyoming.gov/industrial-siting-2/#1CNyUe8qeEf-qOA79kmlZStrSvg-wXg9h. Accessed May 23, 2022.

WyomingNews.com. 2019. Online news article: Total CFD Attendance Slightly Higher Than 2018 Rodeo Attendance. Available at: https://www.wyomingnews.com/news/cheyenne_frontier_days/total-cfd-attendance-slightly-higher-than-2018-rodeo-attendance-dips/article_cea59b15-4179-5a6f-ba0e-0192279b4e1e.html#:~:text=CHEYENNE%20%E2%80%93%20Total%20attendance%20for%20the%20123rd%20Cheyenne,from%20the%20543%2C703%20visitors%20who%20attended%20last%20year. Accessed May 23, 2022.

WAPA's Decision

Informed by the SIS, the analyses and environmental impacts documented in the final EIS, input from Sections 7 and 106 consultations, and in compliance with its Tariff, WAPA has determined that ConnectGen's two interconnection requests will be approved.

In making this decision, WAPA is cognizant that ConnectGen's Project will have significant impacts on visual resources in the Project viewshed, potentially significant impacts on eagles through collisions with operating turbines, and significant adverse effects on certain NRHP-listed or eligible cultural resources eligible under Criterion A and/or C, where integrity of “setting” and/or “feeling” contribute to their NRHP eligibility. Impacts to these important cultural resources, which includes the Ames Monument NHL, is non-physical (visual).

WAPA is further aware that potential eagle impacts will also be analyzed in the FWS's process for authorizing an eagle incidental take permit, and that additional avoidance, minimization, and mitigation measures may be identified and required of ConnectGen as a result of that process. The FWS is the regulatory agency charged with administering and enforcing the Bald and Golden Eagle Protection Act (16 U.S.C. 668-668d, as amended) and authorizing eagle incidental take permits. Similarly, WAPA's HPTP developed under the PA process will analyze potential adverse effects to listed or eligible cultural resources and may identify additional measures to reduce those effects. The appropriate parties are involved in this process, as evidenced by the list provided previously.

WAPA's decision must also consider Federal open access to transmission mandates arising under FERC orders implementing the FPA. For WAPA, this means complying with the requirements of its Tariff and LGIP, which were approved by FERC. FERC Orders on open access to transmission and the conforming Tariff require that WAPA provide available transmission capacity access on a nondiscriminatory basis so long as system reliability and service to its existing customers are not degraded. Pursuant to WAPA's LGIP, transmission and system studies were conducted to model the effects to power flows from the proposed interconnection and ascertain whether there would be negative effects to the operation of the transmission system. The results of these studies indicated that approving ConnectGen's two interconnection requests would not negatively affect the reliability of the transmission system or degrade service to existing customers and that no system upgrades would be required to support the interconnection of ConnectGen's proposed Project with the transmission system.

This ROD was prepared pursuant to the requirements of the Council on Environmental Quality Regulations for Implementing NEPA (40 CFR parts 1500-1508) and DOE's Procedures for Implementing NEPA (10 CFR part 1021).

Signing Authority

This document of the Department of Energy was signed on July 11, 2022, by Tracey A. LeBeau, Administrator, Western Area Power Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 14, 2022.
Treena V. Garrett,
Federal Register Liaison Officer, U.S. Department of Energy.

[FR Doc. 2022-15374 Filed 7-18-22; 8:45 am]

BILLING CODE 6450-01-P